DEPARTMENT OF ENERGY

Federal Energy Regulatory Commission

[Project No. 14573-000]

Siting Renewables, LLC; Notice of Preliminary Permit Application Accepted for Filing and Soliciting Comments, Motions To Intervene, and Competing Applications

On December 17, 2013, Siting Renewables, LLC, filed an application for a preliminary permit, pursuant to section 4(f) of the Federal Power Act (FPA), proposing to study the feasibility of the Easton Dam Hydroelectric Project (Easton Dam Project or project) to be located on the Lehigh River, near Easton, Northampton County, Pennsylvania. The Easton Dam is owned by the state of Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) An existing dam, reinforced with concrete in 1967, 30 feet high; (2) a 590-foot-long concrete spillway discharging into the Delaware River; (3) two channels, each with three, 500-kilowatt (kW) very low head (VLH) turbines and generators with a maximum generating capacity of 3000 kW, with a maximum hydraulic capacity of 2,300 cubic feet per second under a 30-foot gross head; (4) two new heavy flotsam racks; (5) a crest mounted walkway, carrying hydraulic and electrical conduits from the VLH turbines to a new powerhouse; (6) one hydraulic and electrical controls module; and (7) one 4,800-foot-long 12.42/7.2 kilovolt primary transmission line. The estimated annual generation of the Easton Dam Project would be 15,770,000 kilowatthours.

Applicant Contact: Mr. Ralph J. Jones, Siting Renewables, LLC, 1800 Rt. 34, Suite 101, Wall, NJ 07719; phone: (855) 946-7652.

FERC Contact: Timothy Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14573-000.

More information about this project, including a copy of the application, can be viewed or printed on the “eLibrary” link of the Commission's Web site at http://www.ferc.gov/docs-filing/elibrary.asp. Enter the docket number (P-14573) in the docket number field to access the document. For assistance, contact FERC Online Support.

Dated: April 9, 2014.
Kimberly D. Bose,
Secretary.

[FR Doc. 2014-08497 Filed 4-14-14; 8:45 am]

BILLING CODE 6717-01-P